DEPARTMENT OF ENERGY

Federal Energy Regulatory Commission

[Docket No. RP01-72-000]

Wyoming Interstate Company, Ltd.; Notice of Tariff Filing

November 3, 2000.

Take notice that on October 31, 2000, Wyoming Interstate Company (WIC), tendered for filing as part of its FERC Gas Tariff, Second Revised Volume No. 2, Seventh Revised Sheet No. 4B, with an effective date of December 1, 2000.

WIC states that Seventh Revised Sheet No. 4B, reflects increases in the percentages for Fuel, Lost and Unaccounted-for Gas (FL&U Percentage) from .45% to .63% for its Existing System transport, from 1.72% to 1.92% for its Powder River Incremental transport and from .48% to .68% for its Medicine Bow Incremental transport, based on the data contained in the twelve month data collection period ending August 31, 2000, to be effective on December 1, 2000.

WIC states that copies of the filing were served upon the company's jurisdictional customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David. P. Boergers,
Secretary.

[FR Doc. 00-28755 Filed 11-8-00; 8:45 am]

BILLING CODE 6717-01-M